DEPARTMENT OF TRANSPORTATION

Surface Transportation Board

[Docket No. FD 35811]

East Broad Top Connecting Railroad—Operation Exemption—East Broad Top Railroad Preservation Association

East Broad Top Connecting Railroad (EBTCR), a noncarrier, filed a verified notice of exemption under 49 CFR 1150.31 to operate a line of railroad (the Line) owned by the East Broad Top Railroad Preservation Association (the Association) ¹ totaling approximately 4.5 miles near Mt. Union, Pa. The Line consists of two segments: (1) The Mount Union Industrial Track (MUIT), extending between Railroad milepost 0.2, immediately west of the point of switch at Railroad Station 4085+96 at the junction with Norfolk Southern Railway (NSR) at Mt. Union, Pa., to the end of the track at milepost 1.4 at Railroad Station 4025+00, and (2) the original East Broad Top Main Line (EBT) extending from its connection with the MUIT at MUIT milepost 1.1, MUIT Railroad Station 4038+39 (EBT milepost 1.1, EBT Railroad Station 77+57) to EBT milepost 4.4.²

¹ In East Broad Top Railroad Preservation Ass'n—Acquisition & Operation Exemption—Kovalchick Salvage Corp., Docket No. FD 35823, the Association is belatedly seeking authority to acquire and operate the Line, which it purchased from Kovalchick Salvage Corp. in 2013.

² A clarification filed by the Association and EBTCR on May 30, 2014, corrects the mileposts of the EBT. A further clarification filed on June 3, 2014, confirms that the portion of the MUIT acquired by the Association extends between mileposts 0.2 and 1.4. As corrected, therefore, the verified notice pertains to the portion of the MUIT acquired by the Association between milepost 0.2 and milepost 1.4 (1.2 miles) and the portion of the EBT acquired by the Association between its connection with the MUIT at MUIT milepost 1.1 (EBT milepost 1.1) and EBT milepost 4.4 (3.3 miles), for a total distance of 4.5 miles. Although the June 3, 2014 clarification indicates that EBTCR seeks operating authority over an additional segment of the MUIT between mileposts 0.0 and 0.2, according to the parties that segment is outside the portion acquired by the Association, and the operating agreement filed by the parties here (see note 3 below) does not include it. Therefore, it is not included within the scope of this notice.

EBTCR states that, once this notice becomes effective, EBTCR will provide all common carrier railroad service over the Line connecting with and interchanging traffic with NSR.

This transaction may be consummated on or after July 3, 2014 (30 days after the verified notice of exemption was filed).³

³ By decision served on March 27, 2014, the Board held publication of the notice in the Federal Register and effectiveness of this exemption in abeyance pending further filings by EBTCR. On May 20, 2014, EBTCR filed a copy of the operating agreement between it and the Association, see Anthony Macrie—Continuance in Control Exemption—N.J. Seashore Lines, Inc., FD 35296, slip op. at 3-4 (STB served Aug. 31, 2010), and stated that it will e-file copies of the signature pages of the agreement when they are executed. The Association and EBTCR subsequently filed their May 30 and June 3 clarifications. The verified notice therefore is deemed to have been filed on June 3, 2014, the date of the second clarification.

EBTCR certifies that its projected annual revenues as a result of this transaction would not exceed those that would qualify it as a Class III rail carrier and further certifies that its projected annual revenues will not exceed $5 million.

If the verified notice contains false or misleading information, the exemption is void ab initio. Petitions to revoke the exemption under 49 U.S.C. 10502(d) may be filed at any time. The filing of a petition to revoke will not automatically stay the effectiveness of the exemption. Petitions to stay must be filed no later than June 26, 2014 (at least 7 days before the exemption becomes effective).

An original and 10 copies of all pleadings, referring to Docket No. FD 35811, must be filed with the Surface Transportation Board, 395 E Street SW., Washington, DC 20423-0001. In addition, a copy of each pleading must be served on John D. Heffner, Strasburger & Price, 1025 Connecticut Ave. NW., Suite 717, Washington, DC 20036.

Board decisions and notices are available on our Web site at “WWW.STB.DOT.GOV.”

Dated: June 12, 2014.
By the Board, Rachel D. Campbell, Director, Office of Proceedings.
Derrick A. Gardner,
Clearance Clerk.

[FR Doc. 2014-14133 Filed 6-16-14; 8:45 am]

BILLING CODE 4915-01-P